FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011980-002.

Agreement Name: South Atlantic Chassis Pool Agreement.

Parties: Ocean Carrier Equipment Management Association, Inc.; Consolidated Chassis Management LLC, Georgia Ports Authority; South Carolina State Ports Authority; Maersk Line A/S; Hamburg-Sud; CMA CGM S.A.; APL Co. Pte. Ltd.; American President Lines, Ltd.; COSCO Shipping Lines Co., Ltd.; Hapag-Lloyd AG; Hapag-Lloyd USA LLC; Evergreen Line Joint Service Agreement; Hyundai Merchant Marine Co., Ltd.; Orient Overseas Container Line Limited; Ocean Network Express Pte., Ltd.; and Crowley Maritime Corporation.

Filing Party: Joshua Stein; Cozen O'Connor.

Synopsis: The amendment changes the name of the COSCO entity that is a party to the Agreement; removes Yang Ming Marine Transport Corp., Atlantic Container Line, Hanjin and CSAV as parties to the Agreement; removes references to Kawasaki Kisen Kaisha, Ltd. Nippon Yusen Kaisha Line, and Mitsui O.S.K. Lines, Ltd. and replaces them with Ocean Network Express Pte., Ltd.; corrects the address of various parties, updates the description of the corporate relationships between certain parties, and changes the classification of Crowley Maritime from an OCEMA common carrier party to a non-OCEMA ocean common carrier party.

Proposed Effective Date: 10/23/2019.

Location: https://www2.fmc.gov/FMC.Agreements.Web/Public/AgreementHistory/464.

Agreement No.: 201321.

Agreement Name: Sealand/CMA CGM AGAS Space Charter Agreement.

Parties: Maersk Line A/S d/b/a Sealand and CMA CGM S.A.

Filing Party: Wayne Rohde; Cozen O'Connor.

Synopsis: The Agreement authorizes Sealand to charter space to CMA CGM on its AGAS service between the U.S. East Coast on the one hand and ports in Panama and Colombia on the other hand.

Proposed Effective Date: 12/6/2019.

Location: https://www2.fmc.gov/FMC.Agreements.Web/Public/AgreementHistory/24438.

Agreement No.: 201322.

Agreement Name: Maersk/Matson Space Charter Agreement.

Parties: Maersk Line A/S and Matson Navigation Company, Inc.

Filing Party: Wayne Rohde; Cozen O'Connor.

Synopsis: The agreement authorizes Maersk to charter space to Matson in the trade between ports on the Pacific Coast of the United States, American Samoa, Samoa, and Tahiti.

Proposed Effective Date: 12/8/2019.

Location: https://www2.fmc.gov/FMC.Agreements.Web/Public/AgreementHistory/24440.

Dated: October 25, 2019.
Rachel E. Dickon,
Secretary.

[FR Doc. 2019-23705 Filed 10-29-19; 8:45 am]

BILLING CODE 6731-AA-P